DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: External Needs Assessment for NOAA Education Products and Programs.

OMB Control Number: 0648-XXXX.

Form Number(s): None.

Type of Request: Regular (Request for new collection).

Number of Respondents: Approximately 1,000 respondents per year.

Average Hours per Response: Approximately 5 minutes per response.

Burden Hours: Approximately 83 total burden hours per year.

Needs and Uses: In the Fall of 2019 the NOAA Office of Education is planning to sponsor a voluntary multi-question survey to assess the needs of formal and informal educators pertaining to future NOAA multimedia products and programs. In developing multimedia materials that convey NOAA's science, service and stewardship, the agency must ensure that these resources are of the highest quality and meet the needs of formal and informal educators across the United States. To achieve this goal, it will be necessary to conduct surveys identifying the types of multimedia educational programs and products of the highest interest and greatest need by formal and informal educators. By surveying external educators to gather this information, budget expenditures will be used optimally to develop appropriate products and programs most desired by educators to support and enhance ocean and Earth sciences, in addition to related STEM subject literacy throughout our nation.

Affected Public: Individuals or households; Businesses or Other For-Profit; and Not-For-Profit Institutions.

Frequency: Twice per year.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-14852 Filed 7-11-19; 8:45 am]

BILLING CODE 3510-22-P